DEPARTMENT OF EDUCATION

34 CFR Chapter VI

Office of Postsecondary Education; Notice of Negotiated Rulemaking for Programs Authorized Under Title IV and Title II of the Higher Education Act of 1965, as Amended

AGENCY: Department of Education.

ACTION: Notice of invitation for public comment and establishment of negotiated rulemaking committees.

SUMMARY: We announce our intention to establish negotiated rulemaking committees to prepare proposed regulations under Title IV and, possibly, Title II of the Higher Education Act of 1965, as amended (HEA). The committees will include representatives of organizations or groups with interests that are significantly affected by the subject matter of the proposed regulations. We also announce six public hearings, at which interested parties may suggest issues that should be considered for action by the negotiating committees. In addition, for anyone unable to attend a public hearing, we announce that the Department will accept written comments.

DATES: The dates, times, and locations of the public hearings are listed under the SUPPLEMENTARY INFORMATION section of this notice. We must receive written comments suggesting issues that should be considered for action by the negotiating committees on or before October 8, 2008.

ADDRESSES: Please send written comments to Wendy Macias, U.S. Department of Education, 1990 K Street, NW., room 8017, Washington, DC 20006, or by fax to Wendy Macias at (202) 502-7874. You may also e-mail your comments to HEOA08@ed.gov.

FOR FURTHER INFORMATION CONTACT: For information about the public hearings, see http://www.ed.gov/HEOA or contact: Mary Miller, U.S. Department of Education, 1990 K Street, NW., room 8066, Washington, DC 20006. Telephone: (202) 502-7824. You may also e-mail your questions about the public hearings to: Mary.Miller@ed.gov.

For information about negotiated rulemaking in general, see The Negotiated Rulemaking Process for Title IV Regulations, Frequently Asked Questions at http://www.ed.gov/HEOA. For further information contact: Wendy Macias, U.S. Department of Education, 1990 K Street, NW., room 8017, Washington, DC 20006. Telephone (202) 502-7526. You may also e-mail your questions about negotiated rulemaking to: Wendy.Macias@ed.gov.

If you use a telecommunications device for the deaf (TDD), call the Federal Relay Service (FRS), toll free at 1-800-877-8339.

Individuals with disabilities can obtain this document in an alternative format (e.g., Braille, large print, audiotape, or computer diskette) by contacting the person responsible for information about the public hearings.

SUPPLEMENTARY INFORMATION: We intend to develop proposed regulations to implement the changes made to the Higher Education Act of 1965 (HEA) by the Higher Education Opportunity Act of 2008 (HEOA), Public Law 110-315. Section 492 of the HEA, as amended by the HEOA, requires that, before publishing any proposed regulations to implement programs authorized under Title IV of the HEA, the Secretary obtain public involvement in the development of the proposed regulations. After obtaining advice and recommendations from the public, the Secretary uses a negotiated rulemaking process to develop the proposed regulations. In addition, section 201(2) of the HEOA added a provision to section 207(c) of the HEA that requires the Secretary to submit to a negotiated rulemaking process any regulations the Secretary chooses to develop under amended section 207(b)(2) of the HEA, regarding the prohibition on a teacher preparation program from which the State has withdrawn approval or terminated financial support from accepting or enrolling any student who receives Title IV aid.

We intend to develop proposed regulations by following the negotiated rulemaking procedures in section 492 of the HEA. We anticipate using the negotiated rulemaking procedures in section 492 of the HEA to develop any regulations for the new teacher preparation program provision in section 207(b)(2) of the HEA, although the Secretary is not required to do so. After a complete review of the HEOA and the public comments presented at the public hearings and through written submission, we will publish a subsequent notice (or notices) announcing the specific subject areas for which we intend to establish negotiated rulemaking committees, and a request for nominations for individual negotiators for those committees who represent the interests significantly affected by the proposed regulations.

We anticipate that we will announce our intent to establish most of the negotiated rulemaking committees by the end of this year, with negotiations beginning in February 2009. For subject areas for which implementation must occur more quickly, the schedule will be expedited.

For general information on the implementation of the HEOA, see http://www.ed.gov/HEOA.

Public Hearings

We will hold six public hearings for interested parties to discuss the agenda for the negotiated rulemaking sessions. The public hearings will be held on:

• September 19, 2008 at Texas Christian University in Fort Worth, Texas;

• September 29, 2008 at the University of Rhode Island, in Providence, Rhode Island;

• October 2, 2008 at Pepperdine University, in Malibu, California;

• October 6, 2008 at Johnson C. Smith University, in Charlotte, North Carolina;

• October 8, 2008 at the U.S. Department of Education in Washington, DC; and

• October 15, 2008 at Cuyahoga Community College, in Cleveland, Ohio.

The public hearings will be held from 9:00 a.m.-4:00 p.m., local time, with the exception of the hearing at Texas Christian University in Fort Worth, Texas, which will be held from 10:00 a.m.-4:00 p.m., local time. Further information on the public hearing sites, including addresses and directions, is available at http://www.ed.gov/HEOA.

Individuals desiring to present comments at the public hearings are encouraged to do so. It is likely that each participant choosing to make a statement will be limited to five minutes. Individuals interested in making oral statements will be able to register to make a statement beginning at 8:30 a.m. on the day of the public hearing (9:30 a.m. on the day of the public hearing for the hearing at Texas Christian University) at the Department's on-site registration table on a first-come, first-served basis. If additional time slots remain, individuals may be given additional time to speak. If no time slots remain, the Department has reserved one additional hour at the end of the day for individuals who were not able to register to speak. The amount of time available will depend upon the number of individuals who register to speak. Speakers may also submit written comments. In addition, for anyone unable to attend a public hearing, the Department will accept written comments through October 8, 2008. (See the ADDRESSES sections of this notice for submission information.)

The public hearing sites are accessible to individuals with disabilities. Individuals needing an auxiliary aid or service to participate in a meeting (e.g., interpreting service, assistive listening device, or materials in alternative format), should notify the contact person for information about hearings listed under FOR FURTHER INFORMATION CONTACT in this notice in advance of the scheduled meeting date. Although we will attempt to meet any request we receive, we may not be able to make available the requested auxiliary aid or service because of insufficient time to arrange it.

Electronic Access to This Document

You may view this document, in text or Adobe Portable Document Format (PDF), on the Internet at the following site: http://www.ed.gov/news/fedregister. To use PDF you must have Adobe Acrobat Reader, which is available free at this site. If you have questions about using PDF, call the U.S. Government Printing Office toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 1098a; Pub. L. 110-315, § 201(2).

Dated: September 3, 2008.
Cheryl A. Oldham,
Acting Assistant Secretary for Postsecondary Education.

[FR Doc. E8-20776 Filed 9-5-08; 8:45 am]

BILLING CODE 4000-01-P